DEPARTMENT OF TRANSPORTATION

Federal Aviation Administration

14 CFR Part 39

[Docket No. 2002-NM-04-AD; Amendment 39-13491; AD 2004-04-10]

RIN 2120-AA64

Airworthiness Directives; Airbus Model A300 B2 and A300 B4 Series Airplanes; A300 B4-600, B4-600R, C4-605R Variant F, and F4-600R (Collectively Called A300-600); and A310 Series Airplanes

AGENCY: Federal Aviation Administration, DOT.

ACTION: Final rule.

SUMMARY: This amendment adopts a new airworthiness directive (AD), applicable to all Airbus Model A300 B2 and A300 B4 series airplanes; A300 B4-600, B4-600R, C4-605R Variant F, and F4-600R (collectively called A300-600); and A310 series airplanes. This AD requires, for certain airplanes, identifying the part number of the landing gear selector valves. For all airplanes, this AD requires repetitive maintenance tasks or operational tests of the landing gear selector valves, and replacing discrepant valves with certain new valves. This action is necessary to prevent failure of the landing gear selector valves, which could result in residual pressure on the retraction chamber side of the electro-hydraulic selector, and consequent uncommanded retraction of the landing gear when the airplane is on the ground. This action is intended to address the identified unsafe condition.

DATES: Effective April 13, 2004.

The incorporation by reference of certain publications listed in the regulations is approved by the Director of the Federal Register as of April 13, 2004.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tom Groves, Aerospace Engineer; International Branch, ANM-116, FAA, Transport Airplane Directorate, 1601 Lind Avenue, SW., Renton, Washington 98055-4056; telephone (425) 227-1503; fax (425) 227-1149.

SUPPLEMENTARY INFORMATION: A proposal to amend part 39 of the Federal Aviation Regulations (14 CFR part 39) to include an airworthiness directive (AD) that is applicable to all Airbus Model A300 B2 and A300 B4 series airplanes; A300 B4-600, B4-600R, C4-605R Variant F, and F4-600R (collectively called A300-600); and A310 series airplanes; was published in the Federal Register on December 22, 2003 (68 FR 71045). That action proposed to require, for certain airplanes, identifying the part number of the landing gear selector valves. For all airplanes, that action proposed to require repetitive maintenance tasks or operational tests of the landing gear selector valves, and replacing discrepant valves with certain new valves.

Comments

We provided the public the opportunity to participate in the development of this AD. No comments have been submitted on the proposed AD or on the determination of the cost to the public.

Change to Proposed AD

We have slightly revised the description of Model A300-600 series airplanes in this final rule. The revised description more accurately reflects the listing on the type certificate data sheet and identifies the model/series as “A300 B4-600, B4-600R, C4-605R Variant F, and F4-600R (collectively called A300-600)” series airplanes.

Conclusion

We have carefully reviewed the available data and determined that air safety and the public interest require adopting the AD with the change described above.

Cost Impact

The following table provides the estimated costs to do the actions specified in this AD.

Model | Action | Work hours | Average hourly labor rate | Cost per airplane | Number of U.S. airplanes | Fleet cost
A300 B2 A300 B4 | Part number identification | 1 | $65 | $65 | 32 | $2,080
| MPD task | 1 | 65 | 65, per task cycle | 32 | 2,080, per task cycle
| Operational test | 1 | 65 | 65, per test cycle | 32 | 2,080, per test cycle
A300-600 | Operational test | 1 | 65 | 65, per test cycle | 89 | 5,785, per test cycle
A310 | Operational test | 1 | 65 | 65, per test cycle | 47 | 3,055, per test cycle

The cost impact figures discussed above are based on assumptions that no operator has yet accomplished any of the requirements of this AD, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-04-10 Airbus: Amendment 39-13491. Docket 2002-NM-04-AD.

Applicability: All Airbus Model A300 B2 and A300 B4 series airplanes; A300 B4-600, B4-600R, C4-605R Variant F, and F4-600R (collectively called A300-600); and A310 series airplanes; certificated in any category.

Compliance: Required as indicated, unless accomplished previously.

To prevent failure of the landing gear selector valves, which could result in residual pressure on the retraction chamber side of the electro-hydraulic selector, and consequent uncommanded retraction of the landing gear when the airplane is on the ground, accomplish the following:

Part Number Identification

(a) For Model A300 B2 and A300 B4 series airplanes: Before the accumulation of 32,000 total flight cycles on the landing gear selector valves, or within 600 flight hours after the effective date of this AD, whichever occurs later, do the actions required by paragraphs (a)(1) and (a)(2) of this AD.

(1) Inspect to determine whether any selector valve having part number (P/N) A25199-0-2 is installed.

(2) Replace any selector valve having P/N A25199-0-2 with a new selector valve having P/N A25199-0-3, in accordance with Airbus Service Bulletin A300-32-0438, Revision 01, dated November 20, 2001.

Operational Test

(b) For airplanes installed with selector valves having P/N A25199-0-3 only: Before the accumulation of 32,000 total flight cycles on the landing gear selector valves, or within 600 flight hours after the effective date of this AD, whichever occurs later, perform an operational test of the selector valves. Do the test in accordance with the Accomplishment Instructions of Airbus Service Bulletins A300-32-0438 (for Model A300 B2 and A300 B4 series airplanes), A300-32-6082 (for Model A300-600 series airplanes and Model A300 C4-605R Variant F airplanes), and A310-32-2118 (for Model A310 series airplanes); all Revision 01, dated November 20, 2001; as applicable. Before further flight, replace any valve that fails the operational test with a new valve having P/N A25199-0-3, in accordance with the applicable service bulletin.

Follow-on and Corrective Actions

(c) For Model A300 B2 and A300 B4 series airplanes that have not been modified in accordance with Airbus Modification 3083 (Airbus Service Bulletin A300-32-0269): Within 3,000 flight hours after the accumulation of 32,000 total flight cycles on the valve, or within 3,000 flight hours after performing the operational test required by paragraph (b) of this AD, whichever occurs later, do task 323112-0503-2 of the Airbus A300 Maintenance Planning Document (MPD). Repeat the MPD task thereafter at intervals not to exceed 3,000 flight hours.

(d) For Model A300 B2 and A300 B4 series airplanes that have been modified in accordance with Airbus Modification 3083 (Airbus Service Bulletin A300-32-0269), and for Model A300-600 and A310 series airplanes and Model A300 C4-605R Variant F airplanes: Repeat the operational test specified in paragraph (b) of this AD at the later of the times specified by paragraphs (d)(1) and (d)(2) of this AD. Thereafter, repeat the test at intervals not to exceed 18 months or 2,800 flight cycles, whichever occurs first.

(1) Within 18 months or 2,800 flight cycles, whichever occurs first, after the accumulation of 32,000 total flight cycles on the valve.

(2) Within 18 months or 2,800 flight cycles, whichever occurs first, after performing the initial operational test required by paragraph (b) of this AD.

Alternative Methods of Compliance

(e) In accordance with 14 CFR 39.19, the Manager, International Branch, ANM-116, FAA, is authorized to approve alternative methods of compliance for this AD.

Incorporation by Reference

(f) Unless otherwise specified in this AD, the actions must be done in accordance with Airbus Service Bulletin A300-32-0438, Revision 01, including Appendix 01, dated November 20, 2001; Airbus Service Bulletin A300-32-6082, Revision 01, including Appendix 01, dated November 20, 2001; and Airbus Service Bulletin A310-32-2118, Revision 01, including Appendix 01, dated November 20, 2001; as applicable. This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 1: The subject of this AD is addressed in French airworthiness directive 2001-603(B), dated December 12, 2001.

Effective Date

(g) This amendment becomes effective on April 13, 2004.

Issued in Renton, Washington, on February 27, 2004.
Kalene C. Yanamura,
Acting Manager, Transport Airplane Directorate, Aircraft Certification Service.

[FR Doc. 04-4921 Filed 3-8-04; 8:45 am]

BILLING CODE 4910-13-P